DEPARTMENT OF ENERGY

Federal Energy Regulatory Commission

[Docket No. RP01-63-000]

Columbia Gas Transmission Corporation; Notice of Proposed Changes in FERC Gas Tariff

October 31, 2000.

Take notice that on October 24, 2000, Columbia Gas Transmission Corporation (Columbia) tendered for filing to come part of its FERC Gas Tariff, Second Revised Volume No. 1, the following revised tariff sheets, with a proposed effective date of November 1, 2000:

Forty-first Revised No. 28

Ninth Revised Sheet No. 262

Eighth Revised Sheet No. 395

Third Revised Sheet No. 466

Third Revised Sheet No. 475

On April 17, 1995, Columbia filed an Offer of Settlement (Settlement) with the Federal Energy Regulatory Commission (Commission) in Docket No. GP94-02, et al. The Commission in an order dated June 15, 1995 (71 FERC ¶ 61,337) approved the Settlement. Pursuant to Article X of the Settlement, Columbia was permitted to collect $10 million as full and complete satisfaction of any right it may have to recover Gas Supply Realignment Costs, Order No. 500/528 Costs, overriding royalties, and all Producer Contract Rejection Costs (collectively referred to as GSR Costs).

Columbia states that the instant filing address Columbia's collection of $1 million in GSR Costs, plus FERC interest, from its Rate Schedule ITS customers. Specifically, commencing February 1, 1996, Columbia began collecting the GSR Coasts from Rate Schedule ITS Customers via a $0.01/Dth surcharge (Article X Surcharge). The Article X Surcharge was to remain in effect until Columbia had collected the $1 million in GSR Costs, plus FERC interest from ITS Rate Schedule customers.

As of October 31, 2000, Columbia will have over-recovered its allowed recover of $1 million by approximately $20,000. Accordingly, Columbia proposes to remove the Article X Surcharge effective November 1, 2000. The tariff sheets filed herewith will accomplish that.

Columbia states that copies of its filing have been mailed to all firm customers, interruptible customers and affected state commissions.

Any person desiring to be heard or to protest said filing should file a motion to intervene or a protest with the Federal Energy Regulatory Commission, 888 First Street, NW., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28374 Filed 11-3-00; 8:45 am]

BILLING CODE 6717-01-M